DEPARTMENT OF THE INTERIOR

Bureau of Land Management

[ID-086-1430-AE]

Restriction Order for Blackwell Island, Kootenai County, ID

AGENCY: Bureau of Land Management, Interior.

ACTION: Notice of Restriction Order for Blackwell Island, Kootenai County, Idaho, Order No. ID-080-34.

SUMMARY: By order the following restrictions apply to Blackwell Island described as all public lands administered by the Bureau of Land Management (BLM) located in Lots 1, 2, 3, 4, 7, 8, 10, 11, 14, 17, and 18 of the Aqua Terrace plat, portions of Government Lots 3, 4, and 5 all in the NW¼ sec. 14, T.50N., R.4W., B.M. and a portion of Government Lot 23 in the SW¼ sec. 11, T.50N., R.4W., B.M. all in Kootenai County, Idaho.

1. Overnight camping by any person or groups of persons is prohibited. Camping means entering, using or remaining in the closed area during the established night closure period from 11 p.m. to 5 a.m. or as otherwise posted.

2. Overnight boat moorage is prohibited. Moorage means making fast any vessel by use of anchor, line, painter or other means during the established night closure period from 11 p.m. to 5 a.m. or as otherwise posted.

3. Motorized boating use of the Blackwell Canals is prohibited except that portion from the developed boat launch ramp extending downstream to the Spokane River.

4. The consumption of or the possession of open containers of any alcoholic beverage is prohibited.

A map depicting the restricted areas is available for public inspection at the Bureau of Land Management, Coeur d'Alene Field Office, 1808 North Third Street, Coeur d'Alene, Idaho. These restrictions become effective immediately and shall remain in effect unless revoked and/or replaced with supplemental rules.

FOR FURTHER INFORMATION CONTACT: Terry Kincaid at BLM UCSC District, 1808 N. Third St., Coeur d'Alene, ID, 83814 or call (208) 769-5431.

SUPPLEMENTARY INFORMATION: The authority for establishing these restrictions is Title 43, Code of Federal Regulations, 8364.1.

These restrictions do not apply to:

(1) Any federal, state or local government officer or member of an organized rescue or fire fighting force while in the performance of an official duty.

(2) Any Bureau of Land Management employee, agent, contractor, or cooperator while in the performance of an official duty.

These restrictions are necessary to ensure public safety and to protect the resources of the public lands. A new public boat launching facility has been constructed on Blackwell Island. Constructed facilities are designed and provided only to accommodate day-use recreational activities. The small size of the site and its urban setting also make overnight camping activities incompatible with site management objectives. Further, it is recognized that an increase in boating use of the area will occur as a direct result of providing this new public boating access facility. The adjacent canals are narrow and shallow. Water depth and maneuvering space is not sufficient for safe motorized vessel navigation. Public input during the site development planning process supported a motorized boating restriction to protect canal banks and riparian habitat. Additionally, portions of the public lands were annexed into the City of Coeur d'Alene. The alcoholic beverage prohibition is necessary to make federal restrictions consistent with the city ordinance banning alcoholic beverages from any public park.

Violation of this order is punishable by a fine not to exceed $1,000 and/or imprisonment not to exceed 12 months.

Dated: January 30, 2003.
Stephanie Snook,
Acting District Manager.

[FR Doc. 03-9377 Filed 4-16-03; 8:45 am]

BILLING CODE 4310-GG-P